DEPARTMENT OF ENERGY

Environmental Management Site-Specific Advisory Board, Nevada Test Site

AGENCY: Department of Energy.

ACTION: Notice of open meeting cancellation.

On June 24, 2003, the Department of Energy published a notice of open meeting of the Environmental Management Site-Specific Advisory Board, Nevada Test Site 68 FR 37471. Today's notice is announcing the cancellation of the meeting scheduled for July 9, 2003. The next meeting is scheduled for August 13, 2003.

Issued in Washington, DC on June 30, 2003.
Rachel M. Samuel,
Deputy Advisory Committee Management Officer.

[FR Doc. 03-17067 Filed 7-3-03; 8:45 am]

BILLING CODE 6450-01-P